DEPARTMENT OF STATE

Bureau of Political-Military Affairs

[Public Notice 4277]

Notice of Information Collection Under Emergency Review: Form DS-4028, Request for Approval of Technical Assistance Agreement Cover Letter; Form DS-4029, Request for Approval of Technical Assistance Agreement; OMB Control Number 1405-XXXX

AGENCY: Department of State.

ACTION: Notice.

SUMMARY: The Department of State has submitted the following information collection request to the Office of Management and Budget (OMB) for review and approval in accordance with the emergency review procedures of the Paperwork Reduction Act of 1995.

The following summarizes the information collection submitted to OMB:

Type of Request: Emergency Review.

Originating Office: Bureau of Political-Military Affairs, Directorate of Defense Trade Controls, PM/DTC.

Title of Information Collection: Request for Approval of Technical Assistance Agreement Cover Letter and Request for Approval of Technical Assistance Agreement.

Frequency: Not More Than 12 Per Week.

Form Numbers: DS-4028 and DS-4029.

Respondents: Businesses.

Estimated Number of Respondents: 13.

Average Hours Per Response: 2 hours.

Total Estimated Burden: 6,240 hours.

(Total Estimated Burden based on maximum number of requests that may be received during 5-month pilot program.)

The proposed information collection is published to obtain comments from the public and affected agencies. Emergency review and approval of this collection has been requested from OMB by February 9, 2003. If granted, the emergency approval is only valid for 180 days. Comments should be directed to the State Department Desk Officer, Office of Information and Regulatory Affairs, Office of Management and Budget (OMB), Washington, DC 20530, who may be reached on 202-395-3897.

During the first 60 days of this same period a regular review of this information collection is also being undertaken. Comments are encouraged and will be accepted until 60 days from the date that this notice is published in the Federal Register. The agency requests written comments and suggestions from the public and affected agencies concerning the proposed collection of information. Your comments are being solicited to permit the agency to:

• Evaluate whether the proposed information collection is necessary for the proper performance of the functions of the agency, including whether the information will have practical utility.

• Evaluate the accuracy of the agency's estimate of the burden of the proposed collection, including the validity of the methodology and assumptions used.

• Enhance the quality, utility, and clarity of the information to be collected.

• Minimize the reporting burden on those who are to respond, including through the use of automated collection techniques or other forms of technology.

FOR ADDITIONAL INFORMATION: Public comments, or requests for additional information, regarding the collection listed in this notice should be directed to Robert W. Maggi, Deputy Assistant Secretary of Defense Trade Controls, Directorate of Defense Trade Controls, Bureau of Political-Military Affairs, SA-1, Room 12th Floor, H1200, Washington, DC 20522-0112 (202) 663-7000.

Dated: January 25, 2003.
Robert W. Maggi,
Deputy Assistant Secretary for Defense Trade Controls, Bureau of Political-Military Affairs, Department of State.

[FR Doc. 03-3720 Filed 2-13-03; 8:45 am]

BILLING CODE 4710-25-P